FEDERAL COMMUNICATIONS COMMISSION

[DA 00-2022, CC Docket No. 97-213]

Comment Invited on CTIA Petition To Suspend CALEA Compliance Date

AGENCY: Federal Communications Commission.

ACTION: Notice.

SUMMARY: On August 23, 2000, the Cellular Telecommunications Industry Association (“CTIA”) filed a petition to immediately suspend the September 30, 2001 compliance date for implementation of certain assistance capabilities under the Communications Assistance for Law Enforcement Act (“CALEA”). CTIA states that in view of the decision by the United States Court of Appeals for the District of Columbia Circuit (“Court”), the Commission should suspend the September 30, 2001 compliance date.

DATES: Comments Due: September 15, 2000.

FOR FURTHER INFORMATION CONTACT: Rodney Small, Office of Engineering and Technology, (202) 418-2452.

SUPPLEMENTARY INFORMATION: This is a summary of the text of the Public Notice, DA 2022, released September 1, 2000. The document is available for inspection and copying during normal business hours in the FCC Reference Information Center, Room CY-A257, 445 12th Street, SW., Washington, DC, and also may be purchased from the Commission's duplication contractor, International Transcription Service, (202) 857-3800, 1231 20th Street, NW. Washington, DC 20036.

Summary of the Public Notice

1. On August 23, 2000, the Cellular Telecommunications Industry Association (“CTIA”) filed a petition to immediately suspend the September 30, 2001 compliance date for implementation of certain assistance capabilities under the Communications Assistance for Law Enforcement Act (“CALEA”). CTIA states that in view of the August 15, 2000 decision by the United States Court of Appeals for the District of Columbia Circuit (“Court”) to vacate and remand portions of the Commission's Third Report and Order in Docket 97-213, 65 FR 51710, September 24, 1999, the Commission should suspend the September 30, 2001 compliance date to ensure an orderly and cost-efficient implementation of six “punch list” capabilities and a packet-mode communications capability required by the Third Report and Order, 65 FR 51710, September 24, 1999. CTIA notes that the Court remanded to the Commission for further consideration only four of the six punch list capabilities. CTIA further notes that the Court generally upheld the Commission's decision with respect to the packet-mode communications capability, but that a report on packet-mode communications requested by the Commission in the Third Report and Order, 65 FR 51710, September 24, 1999 is scheduled to be submitted by the Telecommunications Industry Association no later than September 30, 2000. Accordingly, CTIA contends that there is uncertainty within the telecommunications industry as to how to proceed with respect to the September 30, 2001 compliance date.

2. We hereby solicit comment on the CTIA Petition, and establish the comment date as September 15, 2000. Comments may be filed using the Commission's Electronic Comment Filing System (ECFS) or by filing paper copies. To file formally, parties must file an original and four copies. If parties want each Commissioner to receive a personal copy of their comments, they must file an original plus nine copies. Parties should send comments to the Office of the Secretary, Federal Communications Commission, 445 12th Street, SW., Washington, DC 20554. Parties are also encouraged to file a copy of all pleadings on a 3.5-inch diskette in Word 97 format.

3. Comments filed through the ECFS can be sent as an electronic file via the Internet to http://www.fcc.gov/e-file/ecfs,html. Generally, only one copy of an electronic submission must be filed. In completing the transmittal screen, commenters should include their full name, Postal Service mailing address, and the applicable docket number. Parties may also submit an electronic comment by Internet e-mail. To obtain filing instructions for e-mail comments, commenters should send an e-mail to ecfs@fcc.gov, and should include the following words in the body of the message: “get form <your e-mail address.” A sample form and directions will be sent in reply.

4. The full text of the CTIA Petition is available for public inspection and copying during regular business hours at the FCC Reference Information Center, Portals II, 445 12th Street, SW, Room CY-A257, Washington, DC 20554. This document may also be purchased from the Commission's copy contractor, International Transcription Service, Inc., 1231 20th Street, NW, 20036, telephone 202-857-3800, facsimile 202-857-3805, TTY 202-293-8810. You may also view this document by accessing the ECFS at: https://gullfoss2.fcc.gov/cgi-bin/websql/prod/ecfs/comsrch_v2.hts

5. This matter shall be treated as a “permit-but-disclose” proceeding in accordance with the Commission's ex parte rules. See 47 CFR 1.1200 and 1.1206. Persons making oral ex parte presentations are reminded that memoranda summarizing the presentations must contain summaries of the substance or the presentations and not merely a listing of the subjects discussed. More than a one or two sentence description of the views and arguments presented generally is required. See 47 CFR 1.1206(b). Other rules pertaining to oral and written ex parte presentations in permit-but-disclose proceedings are set forth in 47 CFR 1.1206(b).

6. This action is taken pursuant to authority found in Sections 4(i) and 303(r) of the Communications Act of 1934, as amended, 47 U.S.C. 154(i) and 303(r); and pursuant to Sections 0.31 and 0.241 of the Commission's Rules, 47 CFR 0.31 and 0.241.

7. For further information on the CTIA Petition, contact Rodney Small, Office of Engineering and Technology, 202-418-2452 <rsmall@fcc.gov>.

Federal Communications Commission.
Julius P. Knapp,
Chief, Policy and Rules Division.

[FR Doc. 00-23500 Filed 9-12-00; 8:45 am]

BILLING CODE 6712-01-U